DEPARTMENT OF LABOR

Employment and Training Administration

[TA-W-62,396]

Atreum-Brighton, A Subsidiary of Magna International Decoma International Division Including On-Site Leased Workers From Qualified Staffing, Aerotek and On-Site Workers From Hubbard Supply Company Brighton, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on November 14, 2007, applicable to workers of Atreum-Brighton, a subsidiary of Magna International, Decoma International Division, including on-site leased workers from Qualified Staffing and Aerotek, Brighton, Michigan. The notice was published in the Federal Register on December 10, 2007 (72 FR 69710).

At the request of a petitioner, the Department reviewed the certification for workers of the subject firm. The workers are engaged in the production of door panels and various other injection molded parts for the automobile industry.

New information shows that workers of Hubbard Supply Company were employed on-site at the Brighton, Michigan location of Atreum-Brighton, a subsidiary of Magna International, Decoma International Division. The Department has determined that these workers were sufficiently under the control of the subject firm and should be considered part of the affected worker group.

Based on these findings, the Department is amending this certification to include workers of Hubbard Supply Company working on-site at the Brighton, Michigan location of the subject firm.

The intent of the Department's certification is to include all workers at Atreum-Brighton, a subsidiary of Magna International, Decoma International Division, Brighton, Michigan who were adversely-impacted by a shift in production of door panels and various other injection molded parts for automobile industry to Mexico and Canada.

The amended notice applicable to TA-W-62,396 is hereby issued as follows:

All workers of Atreum-Brighton, a subsidiary of Magna International, Decoma International Division, including on-site leased workers from Qualified Staffing and Aerotek, and on-site workers from Hubbard Supply Company, Brighton, Michigan, who became totally or partially separated from employment on or after October 30, 2006, through November 14, 2009, are eligible to apply for adjustment assistance under Section 223 of the Trade Act of 1974, and are also eligible to apply for alternative trade adjustment assistance under Section 246 of the Trade Act of 1974.

Signed at Washington, DC, this 8th day of January 2008.
Linda G. Poole,
Certifying Officer, Division of Trade Adjustment Assistance.

[FR Doc. E8-592 Filed 1-14-08; 8:45 am]

BILLING CODE 4510-FN-P